DEPARTMENT OF HEALTH AND HUMAN SERVICES

Health Resources and Services Administration

Health Professions and Nurse Education Special Emphasis Panel; Notice of Meetings

Pursuant to section 10(d) of the Federal Advisory Committee Act, as amended (5 U.S.C. Appendix 2), notice is hereby given of the following Health Professions and Nurse Education Special Emphasis Panel meetings. Part of the meeting will be open to the public. The rest of the meeting will be closed to the public. The closing is in accordance with the provision set forth in section 552(b)(c)(6), Title 5 U.S.C., and the Determination by the Associate Administrator for Management and Program Support, Health Resources and Services Administration, pursuant to Public Law 92-463.

Name: Dental Public Health.

Date and Time: November 18-21, 2002.

Place: Hilton Silver Spring, 8727 Colesville Road, Silver Spring, MD 20910.

Open on: November 18, 2002, 8 a.m. to 10 a.m.

Closed on: November 18, 2002, 10 a.m. to 6 p.m., November 19-21, 2002, 8 a.m. to 6 p.m.

Name: Residency Training in Primary Care.

Date and Time: December 2-5, 2002.

Place: Hilton Silver Spring, 8727 Colesville Road, Silver Spring, MD 20910.

Open on: December 2, 2002, 8 a.m. to 10 a.m.

Closed on: December 2, 2002, 10 a.m. to 6 p.m., December 3-5, 2002, 8 a.m. to 6 p.m.

Name: Residency Training in Primary Care.

Date and Time: December 9-12, 2002.

Place: Hilton Silver Spring, 8727 Colesville Road, Silver Spring, MD 20910.

Open on: December 9, 2002, 8 a.m. to 10 a.m.

Closed on: December 9, 2002, 10 a.m. to 6 p.m., December 10-12, 2002, 8 a.m. to 6 p.m.

Name: Residency Training in General and Pediatric Dentistry.

Date and Time: December 16-19, 2002.

Place: Hilton Silver Spring, 8727 Colesville Road, Silver Spring, MD 20910.

Open on: December 16, 2002, 8 a.m. to 10 a.m.

Closed on: December 16, 2002, 10 a.m. to 6 p.m., December 17-19, 2002, 8 a.m. to 6 p.m.

Name: Predoctoral Training in Primary Care.

Date and Time: January 13-16, 2003.

Place: Hilton Silver Spring, 8727 Colesville Road, Silver Spring, MD 20910.

Open on: January 13, 2003, 8 a.m. to 10 a.m.

Closed on: January 13, 2003, 10 a.m. to 6 p.m., January 14-16, 2003, 8 a.m. to 6 p.m.

Name: Faculty Development Training in Primary Care.

Date and Time: January 21-24, 2003.

Place: Hilton Silver Spring, 8727 Colesville Road, Silver Spring, MD 20910.

Open on: January 21, 2003, 8 a.m. to 10 a.m.

Closed on: January 21, 2003, 10 a.m. to 6 p.m., January 22'24, 2003, 8 a.m. to 6 p.m.

Name: Physician Assistant Training in Primary Care.

Date and Time: January 27-30, 2003.

Place: Hilton Silver Spring, 8727 Colesville Road, Silver Spring, MD 20910.

Open on: January 27, 2003, 8 a.m. to 10 a.m.

Closed on: January 27, 2003, 10 a.m. to 6 p.m., January 28-30, 2003, 8 a.m. to 6 p.m.

Name: Nursing Workforce Diversity.

Date and Time: February 3-6, 2003.

Place: Hilton Silver Spring, 8727 Colesville Road, Silver Spring, MD 20910.

Open on: February 3, 2003, 8 a.m. to 10 a.m.

Closed on: February 3, 2003, 10 a.m. to 6 p.m., February 4-6, 2003, 8 a.m. to 6 p.m.

Name: Model State-Supported Area Health Education Centers.

Date and Time: February 10-13, 2003.

Place: Hilton Silver Spring, 8727 Colesville Road, Silver Spring, MD 20910.

Open on: February 10, 2003, 8 a.m. to 10 a.m.

Closed on: February 10, 2003, 10 a.m. to 6 p.m., February 11-13, 2003, 8 a.m. to 6 p.m.

Name: Basic/Core Area Health Education Centers.

Date and Time: February 10-13, 2003.

Place: Hilton Silver Spring, 8727 Colesville Road, Silver Spring, MD 20910.

Open on: February 10, 2003, 8 a.m. to 10 a.m.

Closed on: February 10, 2003, 10 a.m. to 6 p.m., February 11-13, 2003, 8 a.m. to 6 p.m.

Name: Geriatric Faculty Fellowships.

Date and Time: February 10-13, 2003.

Place: Hilton Silver Spring, 8727 Colesville Road, Silver Spring, MD 20910.

Open on: February 10, 2003, 8 a.m. to 10 a.m.

Closed on: February 10, 2003, 10 a.m. to 6 p.m., February 11-13, 2003, 8 a.m. to 6 p.m.

Name: Academic Administrative Units in Primary Care.

Date and Time: February 24-27, 2003.

Place: Hilton Silver Spring, 8727 Colesville Road, Silver Spring, MD 20910.

Open on: February 24, 2003, 8 a.m. to 10 a.m.

Closed on: February 24, 2002, 10 a.m. to 6 p.m., February 25-27, 2003, 8 a.m. to 6 p.m.

Name: Quentin N. Burdick Program for Rural Interdisciplinary Training.

Date and Time: February 24-28, 2003.

Place: Hilton Silver Spring, 8727 Colesville Road, Silver Spring, MD 20910.

Open on: February 24, 2003, 8 a.m. to 10 a.m.

Closed on: February 24, 2003, 10 a.m. to 6 p.m., February 25-28, 2003, 8 a.m. to 6 p.m.

Name: Advanced Education Nursing.

Date and Time: March 3-6, 2003.

Place: Hilton Silver Spring, 8727 Colesville Road, Silver Spring, MD 20910.

Open on: March 3, 2003, 8 a.m. to 10 a.m.

Closed on: March 3, 2003, 10 a.m. to 6 p.m., March 4-6, 2003, 8 a.m. to 6 p.m.

Name: Regional Workforce Centers.

Date and Time: March 3-6, 2003.

Place: Hilton Silver Spring, 8727 Colesville Road, Silver Spring, MD 20910.

Open on: March 3, 2003, 8 a.m. to 10 a.m.

Closed on: March 3, 2003, 10 a.m. to 6 p.m., March 4-6, 2003, 8 a.m. to 6 p.m.

Name: Advanced Education Nursing.

Date and Time: March 10-13, 2003.

Place: Hilton Silver Spring, 8727 Colesville Road, Silver Spring, MD 20910.

Open on: March 10, 2003, 8 a.m. to 10 a.m.

Closed on: March 10, 2003, 10 a.m. to 6 p.m., March 11-13, 2003, 8 a.m. to 6 p.m.

Name: Basic Nurse Education and Practice Grants Program, Peer Review Group I.

Date and Time: March 17-20, 2003.

Place: Hilton Silver Spring, 8727 Colesville Road, Silver Spring, MD 20910.

Open on: March 17, 2003, 8 a.m. to 10 a.m.

Closed on: March 17, 2003, 10 a.m. to 6 p.m., March 18-20, 2003, 8 a.m. to 6 p.m.

Name: Geriatric Education Centers.

Date and Time: March 24-27, 2003.

Place: Hilton Silver Spring, 8727 Colesville Road, Silver Spring, MD 20910.

Open on: March 24, 2003, 8 a.m. to 10 a.m.

Closed on: March 24, 2003, 10 a.m. to 6 p.m., March 25-27, 2003, 8 a.m. to 6 p.m.

Name: Basic Nurse Education and Practice Grants Program, Peer Review Group II.

Date and Time: March 31-April 3, 2003.

Place: Hilton Silver Spring, 8727 Colesville Road, Silver Spring, MD 20910.

Open on: March 31, 2003, 8 a.m. to 10 a.m.

Closed on: March 31, 2003, 10 a.m. to 6 p.m., April 1-3, 2003, 8 a.m. to 6 p.m.

Name: Allied Health Projects.

Date and Time: April 7-11, 2003.

Place: Hilton Silver Spring, 8727 Colesville Road Avenue, Silver Spring, MD 20910.

Open on: April 7, 2003, 8 a.m. to 10 a.m.

Closed on: April 7, 2003, 10 a.m. to 6 p.m., April 8-11, 2002, 8 a.m. to 6 p.m.

Name: Centers of Excellence.

Date and Time: April 7-11, 2003.

Place: Hilton Silver Spring, 8727 Colesville Road Avenue, Silver Spring, MD 20910.

Open on: April 7, 2003, 8 a.m. to 10 a.m.

Closed on: April 7, 2003, 10 a.m. to 6 p.m., April 8-11, 2002, 8 a.m. to 6 p.m.

Name: Health Careers Opportunity Program Peer Review Group.

Date and Time: May 5-9, 2003.

Place: Hilton Silver Spring, 8727 Colesville Road, Silver Spring, MD 20910.

Open on: May 5, 2003, 8 a.m. to 10 a.m.

Closed on: May 5, 2003, 10 a.m. to 6 p.m., May 6-9, 2003, 8 a.m. to 6 p.m.

Name: Geriatric Academic Career Awards.

Date and Time: May 12-15, 2003.

Place: Hilton Silver Spring, 8727 Colesville Road, Silver Spring, MD 20910.

Open on: May 12, 2003, 8 a.m. to 10 a.m.

Closed on: May 12, 2003, 10 a.m. to 6 p.m., May 13-15, 2003, 8 a.m. to 6 p.m.

Name: Public Health Training Centers.

Date and Time: May 19-22, 2003.

Place: Hilton Silver Spring, 8727 Colesville Road, Silver Spring, MD 20910.

Open on: May 19, 2003, 8 a.m. to 10 a.m.

Closed on: May 19, 2003, 10 a.m. to 6 p.m., May 20-22, 2003, 8 a.m. to 6 p.m.

Name: Chiropractic Demonstration Project.

Date and Time: June 9-12, 2003.

Place: Hilton Silver Spring, 8727 Colesville Road, Silver Spring, MD 20910.

Open on: June 9, 2003, 8 a.m. to 10 a.m.

Closed on: June 9, 2003, 10 a.m. to 6 p.m., June 10-12, 2003, 8 a.m. to 6 p.m.

Purpose: The Health Professions and Nurse Education Special Emphasis Panel shall advise the Associate Administrator for Health Professions on the technical merit of grants to improve the training, distribution, utilization, and quality of personnel required to staff the Nation's health care delivery system.

Agenda: The open portion of each meeting from 8 a.m. to approximately 10 a.m. will cover introductions, opening remarks, housekeeping details, and an orientation to the review process. The meetings will be closed at approximately 10:00 a.m. on the first day of each meeting until adjournment for the review of grant applications, the disclosure of which would constitute a clearly unwarranted invasion of personal privacy.

For Further Information Contact: Anyone wishing to obtain a roster of members or other relevant information should write or contact Ms. Wilma Johnson, Acting Deputy Director, Office of Peer Review, Bureau of Health Professions, Parklawn Building, Room 8C-23, 5600 Fishers Lane, Rockville, Maryland 20857, telephone 301-443-6339.

Dated: October 11, 2002.
Jane M. Harrison,
Director, Division of Policy Review and Coordination.

[FR Doc. 02-26623 Filed 10-17-02; 8:45 am]

BILLING CODE 4165-15-P